DEPARTMENT OF DEFENSE

48 CFR Parts 225 and 252

[DFARS Case 2004-D034]

Defense Federal Acquisition Regulation Supplement; Restrictions on Totally Enclosed Lifeboat Survival Systems

AGENCY: Department of Defense (DoD).

ACTION: Final rule.

SUMMARY: DoD has issued a final rule amending the Defense Federal Acquisition Regulation Supplement (DFARS) to remove text addressing restrictions on the acquisition of totally enclosed lifeboat survival systems. The restrictions are based on fiscal year 1994 and 1995 appropriations act provisions, that are no longer considered applicable, and other statutory provisions that apply only to the Navy.

DATEs: Effective September 1, 2005.

FOR FURTHER INFORMATION CONTACT: Ms. Amy Williams, Defense Acquisition Regulations Council, OUSD (AT&L) DPAP (DAR), IMD 3C132, 3062 Defense Pentagon, Washington, DC 20301-3062. Telephone (703) 602-0328; facsimile (703) 602-0350. Please cite DFARS Case 2004-D034.

SUPPLEMENTARY INFORMATION:

A. Background

This final rule removes DFARS 225.7008, Restrictions on totally enclosed lifeboat survival systems, and the corresponding contract clause at DFARS 252.225-7039. These restrictions implement Section 8124 of the Fiscal Year 1994 DoD Appropriations Act (Pub. L. 103-139), Section 8093 of the Fiscal Year 1995 DoD Appropriations Act (Pub. L. 103-335), and 10 U.S.C. 2534. The fiscal year 1994 and 1995 appropriations act restrictions are no longer considered applicable. 10 U.S.C. 2534 applies to the acquisition of totally enclosed lifeboats that are components of naval vessels. Since this restriction impacts only the Navy, and 10 U.S.C. 2534(h) specifies that DoD may not use contract clauses or certifications, but must use management and oversight techniques, to implement this restriction, DFARS coverage for implementation of this restriction is considered unnecessary.

DoD published a proposed rule at 70 FR 14628 on March 23, 2005. DoD received no comments on the proposed rule. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the domestic source restrictions of 10 U.S.C. 2534 still apply to the acquisition of totally enclosed lifeboats that are components of naval vessels. 10 U.S.C. 2534 requires that DoD acquire such lifeboats only if the manufacturer is part of the national technology and industrial base.

C. Paperwork Reduction Act

The Paperwork Reduction Act does not apply because the rule does not contain any information collection requirements that require the approval of the Office of Management and Budget under 44 U.S.C. 3501, et seq.

List of Subjects in 48 CFR Parts 225 and 252

Government procurement.

Michele P. Peterson,
Editor, Defense Acquisition Regulations System.

Therefore, 48 CFR parts 225 and 252 are amended as follows:

1. The authority citation for 48 CFR parts 225 and 252 continues to read as follows:

Authority: 41 U.S.C. 421 and 48 CFR Chapter 1.

PART 225—FOREIGN ACQUISITION

225.7008 [Removed and Reserved]

2. Section 225.7008 is removed and reserved.

225.7008-1 through 225.7008-4 [Removed]

3. Sections 225.7008-1 through 225.7008-4 are removed.

PART 252—SOLICITATION PROVISIONS AND CONTRACT CLAUSES

252.225-7039 [Removed and Reserved]

4. Section 252.225-7039 is removed and reserved.

[FR Doc. 05-17351 Filed 8-31-05; 8:45 am]

BILLING CODE 5001-08-P